DEPARTMENT OF HEALTH AND HUMAN SERVICES

National Institutes of Health

National Institute of General Medical Sciences; Amended Notice of Meeting

Notice is hereby given of a change in the meeting of the National Institute of General Medical Sciences Special Emphasis Panel, June 22, 2021, 09:00 a.m. to June 23, 2021, 05:30 p.m., National Institutes of Health, Natcher Building, 45 Center Drive, Bethesda, MD, 20892 which was published in the Federal Register on April 16, 2021, 86 FR 20181.

The meeting notice is amended to change time of the meeting from 9:00 a.m.-5:30 p.m. to 9:30 a.m.-5:30 p.m. The meeting is closed to the public.

Dated: May 20, 2021.
Miguelina Perez,
Program Analyst, Office of Federal Advisory Committee Policy.

[FR Doc. 2021-11044 Filed 5-24-21; 8:45 am]

BILLING CODE 4140-01-P